GENERAL SERVICES ADMINISTRATION

[GSA Bulletin FPMR D-258]

Public Buildings Space

This notice contains GSA Bulletin FPMR D-258 which announces the redesignation of a Federal Building. The text of the bulletin follows:

TO: Heads of Federal Agencies

SUBJECT: Redesignation of a Federal Building

1. Purpose. This bulletin announces the redesignation of a Federal Building.

2. Expiration date. This bulletin expires April 20, 2002. However, the building redesignation announced by this bulletin will remain in effect until canceled or superseded.

3. Redesignation. The former and new names of the building being redesignated is as follows:

Former name | New name
The Main Justice Department Building | Robert F. Kennedy Department of Justice Building.
950 Pennsylvania Avenue, NW | 950 Pennsylvania Avenue, NW.
Washington, DC 20530 | Washington, DC 20530.

Dated: November 20, 2001.
Stephen A. Perry,
Administrator of General Services.

[FR Doc. 01-29451 Filed 11-26-01; 8:45 am]

BILLING CODE 6820-34-M